DEPARTMENT OF HOMELAND SECURITY

Federal Emergency Management Agency

[Docket ID: FEMA-2022-0029; OMB No. 1660-NW152]

Agency Information Collection Activities: Submission for OMB Review, Comment Request; Logistics Supply Chain Management System Cloud (LSCMS-C) Access Control Form

AGENCY: Federal Emergency Management Agency, Department of Homeland Security.

ACTION: 30-Day notice of new collection and request for comments.

SUMMARY: The Federal Emergency Management Agency (FEMA) will submit the information collection abstracted below to the Office of Management and Budget for review and clearance in accordance with the requirements of the Paperwork Reduction Act of 1995. The submission seeks comments concerning the Logistics Supply Chain Management System Cloud (LSCMS-C) Access Control Form, which is required for internal and external personnel who need access to the LSCMS-C operational system to process supply chain management transactions.

DATES: Comments must be submitted on or before May 17, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address: FEMA-Information-Collections-Management@fema.dhs.gov or Natasha Hinkson, Logistics Management Directorate, Logistics System Division IT Support Branch Chief, 202-658-9394, Natasha.Hinkson@fema.dhs.gov.

SUPPLEMENTARY INFORMATION: The LSCMS-C system requires role-based access, which is based on an individual's position, to complete day to day supply chain management transactions for the Office of Response and Recovery's Logistics Management Directorate (LMD). Transactions include the ordering, tracking, monitoring, reporting, and shipping of FEMA assets and critical commodities both domestically and Outside the Continental United States (OCONUS) in support of disaster operations.

Authorized users of the LSCMS-C operational system will have access to minimal personally identifiable information, primarily point of contact information associated with the disaster commodities and assets order entry request for other end users to complete the fulfillment of FEMA orders for ordering, receiving, and delivery of the commodities and assets for FEMA Disaster Response and Recovery activities, as well as non-disaster activities for Mission Support.

The Transportation Service Providers (TSP) Registration Form is additionally required for Transportation Service Providers who would like to apply to be a part of the FEMA Standard Tender of Service (FEMA STOS) program for FEMA STOS specific information that will be included in their LSCMS-C profiles.

The authorities to collect and use this information are applicable to all Federal agencies under the Interstate Commerce Act, Federal Acquisition Regulation (FAR), and General Services Administration's Federal Management Regulation. The authorities include:

• Interstate Commerce Act, 49 U.S.C. 10721, 13712;

• Federal Acquisition Regulation, subpart A—General; part 47, “Transportation”;

• Federal Management Regulation, 41 CFR parts 102-117, 102-118;

• The Robert T. Stafford Disaster Relief and Emergency Assistance Act, 42 U.S.C. 5121-5207;

• Homeland Security Act of 2002, 6 U.S.C. 311 et seq.

This proposed information collection previously published in the Federal Register on November 10, 2022, at 87 FR 67923 with a 60 day public comment period. One complimentary comment was received and FEMA thanks the anonymous commentor. The purpose of this notice is to notify the public that FEMA will submit the information collection abstracted below to the Office of Management and Budget for review and clearance.

Collection of Information

Title: Logistics Supply Chain Management System Cloud (LSCMS-C) Access Control Form.

Type of Information Collection: Existing collection in use without an OMB control number.

OMB Number: 1660-NW152.

FEMA Forms: FEMA Form FF-145-FY-22-102 (formerly 119-0-0-20), Logistics Supply Chain Management System Cloud (LSCMS-C) Access Control Form; FEMA Form FF-145-FY-22-103, Transportation Service Providers (TSP) Registration Form.

Abstract: The Logistics Supply Chain Management System Cloud (LSCMS-C) Access Control Form is required for FEMA or Non-FEMA personnel who require access to the LSCMS-C operational system, enabling end users to process supply chain management transactions. The LSCMS-C Access Control Form is completed by internal and external users who require access. The Transportation Service Providers (TSP) Registration Form is additionally required for Transportation Service Providers who would like to apply to be a part of the FEMA Standard Tender of Service (FEMA STOS) program for FEMA STOS specific information that will be included in their LSCMS-C profiles.

Affected Public: Business or other for-profit.

Estimated Number of Respondents: 984.

Estimated Number of Responses: 2,952.

Estimated Total Annual Burden Hours: 885.6.

Estimated Total Annual Respondent Cost: $25,531.

Estimated Respondents' Operation and Maintenance Costs: $0.

Estimated Respondents' Capital and Start-Up Costs: $0.

Estimated Total Annual Cost to the Federal Government: $3,958,942.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-08034 Filed 4-14-23; 8:45 am]

BILLING CODE 9111-24-P